DEPARTMENT OF DEFENSE

Department of the Army

[Docket ID: USA-2021-HQ-0010]

Submission for OMB Review; Comment Request

AGENCY: Department of the Army, Department of Defense (DoD).

ACTION: 30-Day information collection notice.

SUMMARY: The Department of Defense has submitted to OMB for clearance the following proposal for collection of information under the provisions of the Paperwork Reduction Act.

DATES: Consideration will be given to all comments received by October 7, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION: Title; Associated Form; and OMB Number: Army Safety Management Information System (ASMIS); OMB Control Number 0702-ASMS.

Type of Request: New.

Number of Respondents: 200.

Responses per Respondent: 2.

Annual Responses: 400.

Average Burden per Response: 31.95 minutes.

Annual Burden Hours: 213.

Needs and Uses: The Army Safety Management Information System (ASMIS) system of record is the Army's single, centralized repository for Safety and Occupational Health (SOH) data. Information collected via the three applications within ASMIS is necessary to support the requirements of the Army Safety and Occupational Health program as directed via the AR 385-10 and as prescribed in DA PAM 385-40. The information collected is used for the sole purpose of preventing accidental loss and maximizing readiness within the U.S. Army. Users provide data via one of three applications: (1) Mishap and near miss reporting, (2) safety audits and inspections, and (3) hazard management. Each provides a modern web-based, intuitive means of entering data. Users are primarily Safety Officers with orders in writing to fulfil those duties. Most of these individuals are military and DoD civilian personnel, but contractor personnel may also submit reports in ASMIS as part of their duties.

Affected Public: Individuals or households.

Frequency: As required.

Respondent's Obligation: Mandatory.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 1, 2021.
Aaron T. Siegel,
Alternate OSD Federal Register, Liaison Officer, Department of Defense.

[FR Doc. 2021-19318 Filed 9-3-21; 8:45 am]

BILLING CODE 5001-06-P